DEPARTMENT OF HOMELAND SECURITY

Coast Guard

[Docket No. USCG-2007-29143]

Chemical Transportation Advisory Committee; Charter Renewal

AGENCY: Coast Guard, DHS.

ACTION: Notice of charter renewal.

SUMMARY: Under the Federal Advisory Committee Act, 5 U.S.C. App. 2 (Pub. L. 92-463), the Secretary of Homeland Security has renewed the charter for the Chemical Transportation Advisory Committee (CTAC) for 2 years from August 17, 2007, until August 17, 2009. CTAC is a Federal advisory committee under 5 U.S.C. App. 2 (Pub. L. 92-463, 86 Stat. 770). This Committee advises the Coast Guard on safe and secure transportation and handling of hazardous materials in bulk on U.S.-flag vessels and barges in U.S. ports and waterways.

ADDRESSES: A copy of this notice and the Committee charter is available in our online docket, USCG-2007-29143, at http://dms.dot.gov. You may request a copy of the charter by writing to Commandant (CG-3PSO), U.S. Coast Guard, 2100 Second Street, SW., Washington, DC 20593-0001; by calling 202-372-1420; or by faxing 202-372-1926.

FOR FURTHER INFORMATION CONTACT: Commander Richard Raksnis, Executive Director of CTAC, or Ms. Sara S. Ju, Assistant to the Executive Director, telephone at 202-372-1425, fax 202-372-1926.

Dated: September 5, 2007.
J. G. Lantz,
Director of National and International Standards, Assistant Commandant for Prevention.

[FR Doc. E7-18304 Filed 9-17-07; 8:45 am]

BILLING CODE 4910-15-P